DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Research Misconduct: An Inquiry into Etiology and Stigma—NEW—The Office of Research Integrity (ORI) in the Public Health Service is responsible for developing strategies to prevent research misconduct and improve research integrity. The purpose of the proposed survey is to study research misconduct. The survey will contribute to a better understanding of scientific misconduct, its causes, it effects on the careers of those found guilty of such misconduct and will possibly identify preventative and control measures. Respondents: Individuals; Number of Respondents: 30; Average Burden per Response: 2 hours; Total Burden: 60 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street, NW., Washington, DC 20503.

Comments may also be sent to Cynthia Agens Bauer, OS Reports Clearance Officer, Room 503H, Humphrey Building, 200 Independence Avenue SW., Washington, DC 20201. Written comments should be received within 30 days of this notice.

Dated: April 12, 2001.
Kerry Weems,
Acting Deputy Assistant Secretary, Budget.

[FR Doc. 01-9853 Filed 4-19-01; 8:45 am]

BILLING CODE 4150-31-M